DEPARTMENT OF AGRICULTURE

Natural Resources Conservation Service

Task Force on Agricultural Air Quality

AGENCY: Natural Resources Conservation Service, USDA.

ACTION: Notice of meeting; correction.

Correction

In FR Doc. 04-3457, in the issue of February 18, 2004, make the following correction to the ADDRESSES. On page 7616, in the third column, in the second through fourth lines of the ADDRESSES section, correct “Sheraton Imperial Hotel, Page Road, Research Triangle Park, North Carolina 27709; telephone: (919) 941-5050” to read “EPA Headquarters Campus, Room 111 A, B, & C, 109 T.W. Alexander Drive, Research Triangle Park, North Carolina 27711; telephone: (919) 541-5436.”

Dated: February 26, 2004.
Helen V. Huntington,
Federal Register Liaison, Natural Resources Conservation Service.

[FR Doc. 04-4603 Filed 3-1-04; 8:45 am]

BILLING CODE 1310-16-U